DEPARTMENT OF COMMERCE

National Oceanic and Atmospheric Administration

[RTID 0648-XF008]

Permanent Advisory Committee To Advise the U.S. Commissioners to the Western and Central Pacific Fisheries Commission; Meeting Announcement

AGENCY: National Marine Fisheries Service (NMFS), National Oceanic and Atmospheric Administration (NOAA), Commerce.

ACTION: Notice of public meeting.

SUMMARY: NMFS announces a public meeting of the Permanent Advisory Committee (PAC) to advise the U.S. Commissioners to the Commission for the Conservation and Management of Highly Migratory Fish Stocks in the Western and Central Pacific Ocean (WCPFC) from October 6, 2025 through October 8, 2025. Meeting topics are provided under the SUPPLEMENTARY INFORMATION section of this notice.

DATES: The meeting of the PAC will be held, via web conference, from October 6 through October 8, 2025, from 10 a.m. to 1 p.m. Hawaii Standard Time (HST) each day or until business is concluded. Members of the public may submit written comments on meeting topics or materials, at least 2 weeks before the meeting (submission by September 22, 2025), if wanting the comment to be part of meeting materials and to be reviewed by PAC members and U.S. Commissioners ahead of the meeting; public comment is also accepted during the meeting. An Executive Session, closed to the public, may be called during the PAC meeting if confidential subject matter arises or is requested by the PAC. Confidential matters can include U.S. negotiating positions, strategy, litigation, and internal operational issues related to international meetings. A placeholder for an Executive Session is placed on the agenda to accommodate this possibility.

ADDRESSES: The public meeting will be conducted via web conference. For details on how to call in to the web conference or to submit comments, please contact Katrina Poremba, NMFS Pacific Islands Regional Office; telephone: 808-725-5096; email: pir.wcpfc@noaa.gov. Documents to be considered by the PAC will be sent out via email in advance of the conference call. Please submit contact information to Katrina Poremba (telephone: 808-725-5096; email: pir.wcpfc@noaa.gov) at least 10 days in advance of the meeting, by September 26, 2025, to receive documents via email. This meeting may be audio recorded for the purpose of generating notes of the meeting. As public comments will be made publicly available, participants and public commenters are urged not to provide personally identifiable information (PII) at this meeting. Participation in the meeting by web conference, or by telephone, constitutes consent to the audio recording.

FOR FURTHER INFORMATION CONTACT: Katrina Poremba, NMFS Pacific Islands Regional Office; 1845 Wasp Blvd., Bldg. 176, Honolulu, HI 96818; telephone: 808-725-5096; email: pir.wcpfc@noaa.gov.

SUPPLEMENTARY INFORMATION: In accordance with the Western and Central Pacific Fisheries Convention Implementation Act (16 U.S.C. 6901 et seq.), the PAC has been formed to advise the U.S. Commissioners to the WCPFC. The PAC is composed of: (i) no less than 15 nor more than 20 individuals appointed by the Secretary of Commerce in consultation with the U.S. Commissioners to the WCPFC; (ii) the chair of the Western Pacific Fishery Management Council's Advisory Committee (or the chair's designee); and (iii) officials from the fisheries management authorities of American Samoa, Guam, and the Northern Mariana Islands (or their designees). The PAC supports the work of the U.S. National Section to the WCPFC in an advisory capacity. The U.S. National Section is made up of the U.S. Commissioners, the Department of State, and the U.S. head of delegation. NMFS Pacific Islands Regional Office provides administrative and technical support to the PAC in cooperation with the Department of State. More information on the WCPFC, established under the Convention on the Conservation and Management of Highly Migratory Fish Stocks in the Western and Central Pacific Ocean, can be found on the WCPFC website: http://www.wcpfc.int.

Meeting Topics

The purpose of the October 6 through October 8, 2025 meeting is to discuss U.S. objectives leading up to WCPFC22 and its Subsidiary Body Meetings. There will also be an opportunity for the U.S. Participating Territories (American Samoa, Guam, and CNMI) to present their priority issues to the U.S. Commissioners.

Special Accommodations

The web conference is accessible to people with disabilities. Requests for sign language interpretation or other auxiliary aids should be directed to Katrina Poremba at 808-725-5096 by September 29, 2025.

Authority: 16 U.S.C. 6902 et seq.

Dated: August 25, 2025.
Kelly Denit,
Director, Office of Sustainable Fisheries, National Marine Fisheries Service.

[FR Doc. 2025-16456 Filed 8-27-25; 8:45 am]

BILLING CODE 3510-22-P